ENVIRONMENTAL PROTECTION AGENCY

[Petition IV-2010-1; FRL-9306-2]

Clean Air Act Operating Permit Program; Petition for Objection to State Operating Permit for Tennessee Valley Authority—Paradise Fossil Fuel Plant; Muhlenberg County, KY

AGENCY: Environmental Protection Agency (EPA).

ACTION: Notice of final order on petition to object to a state operating permit.

SUMMARY: Pursuant to Clean Air Act (CAA) Section 505(b)(2) and 40 CFR 70.8(d), the EPA Administrator signed an Order, dated May 2, 2011, denying a petition to object to a CAA title V operating permit issued by the Kentucky Division for Air Quality to Tennessee Valley Authority (TVA) for its Paradise Fossil Fuel Plant located near Drakesboro in Muhlenberg County, Kentucky. This Order constitutes a final action on the petition submitted by Sierra Club (Petitioner) on January 9, 2010. Pursuant to sections 307(b) and 505(b)(2) of the CAA, a petition for judicial review of those parts of the Order that deny issues in the petition may be filed in the United States Court of Appeals for the appropriate circuit within 60 days from the date this notice appears in the Federal Register.

ADDRESSES: Copies of the Order, the petition, and all pertinent information relating thereto are on file at the following location: EPA Region 4, Air, Pesticides and Toxics Management Division, 61 Forsyth Street, SW., Atlanta, Georgia 30303-8960. The Order is also available electronically at the following address: http://www.epa.gov/region07/air/title5/petitiondb/petitions/tva_paradise_response2010.pdf.

FOR FURTHER INFORMATION CONTACT: Art Hofmeister, Air Permits Section, EPA Region 4, at (404) 562-9115 or hofmeister.art@epa.gov.

SUPPLEMENTARY INFORMATION: The CAA affords EPA a 45-day period to review and, as appropriate, the authority to object to operating permits proposed by state permitting authorities under title V of the CAA, 42 U.S.C. 7661-7661f. Section 505(b)(2) of the CAA and 40 CFR 70.8(d) authorize any person to petition the EPA Administrator to object to a title V operating permit within 60 days after the expiration of EPA's 45-day review period if EPA has not objected on its own initiative. Petitions must be based only on objections to the permit that were raised with reasonable specificity during the public comment period provided by the state, unless the petitioner demonstrates that it was impracticable to raise these issues during the comment period or the grounds for the issues arose after this period.

Petitioner submitted a petition regarding the Paradise Fossil Fuel Plant on January 9, 2010, requesting that EPA object to the CAA title V operating permit (#V-07-018R1). Petitioner alleged that the permit was not consistent with the CAA because it failed to include a prevention of significant deterioration (PSD) analysis for the three main boilers (Units 1-3) due to alleged major modifications undertaken at Paradise Fossil Fuel Plant beginning in 1984 without TVA obtaining required PSD permits.

On May 2, 2011, the Administrator issued an Order denying the petition. The Order explains EPA's rationale for denying the petition.

Dated: May 9, 2011.
A. Stanley Meiburg,
Deputy Regional Administrator, Region 4.

[FR Doc. 2011-11948 Filed 5-13-11; 8:45 am]

BILLING CODE 6560-50-P